ENVIRONMENTAL PROTECTION AGENCY

40 CFR Part 52

[EPA-R05-OAR-2004-IL-0002; FRL-8503-5]

Approval and Promulgation of Implementation Plans; Illinois; Source-Specific Revision for Cromwell-Phoenix, Incorporated

AGENCY: Environmental Protection Agency (EPA).

ACTION: Direct final rule.

SUMMARY: The EPA is approving a revision to the Illinois State Implementation Plan (SIP) to incorporate site-specific Volatile Organic Compounds (VOC) regulations for the Corrosion Inhibiting (CI) packaging production facility of Cromwell-Phoenix, Incorporated (Cromwell-Phoenix) located in Alsip, Illinois (Cook County). The EPA is approving an adjusted standard from Illinois' paper coating regulations for Cromwell-Phoenix's CI packaging production facility.

DATES: This “direct final” rule is effective on February 11, 2008, unless EPA receives adverse written comments by January 14, 2008. If an adverse comment is received, EPA will publish a timely withdrawal of the rule in the Federal Register and inform the public that the rule will not take effect.

ADDRESSES: Submit your comments, identified by Docket ID No. EPA-R05-OAR-2004-IL-0002, by one of the following methods:

1. http://www.regulations.gov: Follow the online instructions for submitting comments.

2. E-mail: mooney.john@epa.gov.

3. Fax: (312) 886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois. Such deliveries are only accepted during the Regional Office's normal hours of operation, and special arrangements should be made for deliveries of boxed information. The Regional Office's official hours of operation are Monday through Friday, 8:30 a.m. to 4:30 p.m., excluding Federal holidays.

Instructions: Direct your comments to Docket ID No. EPA-R05-OAR-2004-IL-0002. EPA's policy is that all comments received will be included in the public docket without change and may be made available online at www.regulations.gov, including any personal information provided, unless the comment includes information claimed to be Confidential Business Information (CBI) or other information whose disclosure is restricted by statute. Do not submit information that you consider to be CBI, or otherwise protected, through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and should be free of any defects or viruses. For additional instructions on submitting comments, go to section I of the SUPPLEMENTARY INFORMATION section of this document.

Docket: All documents in the docket are listed in the www.regulations.gov index. Although listed in the index, some information is not publicly available, e.g., CBI or other information whose disclosure is restricted by statute. Certain other material, such as copyrighted material, will be publicly available only in hardcopy. Publicly available docket materials are available either electronically in www.regulations.gov or in hardcopy at the Environmental Protection Agency, Region 5, Air and Radiation Division, 77 West Jackson Boulevard, Chicago, Illinois 60604. This facility is open from 8:30 a.m. to 4:30 p.m., Monday through Friday, excluding Federal holidays. It is recommended that you telephone Edward Doty, Environmental Scientist, at (312) 886-6057, before visiting the Region 5 office.

FOR FURTHER INFORMATION CONTACT: Edward Doty, Environmental Scientist, Criteria Pollutant Section, Air Programs Branch (AR-18J), U.S. Environmental Protection Agency, Region 5, 77 West Jackson Boulevard, Chicago, Illinois 60604. Telephone: (312) 886-6057. E-mail address: doty.edward@epa.gov.

SUPPLEMENTARY INFORMATION: Throughout this document, whenever “we,” “us,” or “our” are used, we mean EPA. This SUPPLEMENTARY INFORMATION section is organized as follows:

I. General Information

Does this action apply to me?

II. Today's Action

A. What action is EPA taking today?

B. Why is EPA taking this action?

C. What are the alternative control requirements included in the Adjusted Standard?

D. What information did Illinois submit in support of this SIP revision?

E. Was a public hearing held?

F. Why is this SIP revision being approved?

III. Final Rulemaking Action

IV. Statutory and Executive Order Reviews

I. General Information

Does this action apply to me?

This action only applies to Cromwell-Phoenix, Incorporated (Cromwell-Phoenix), and, in particular, to Cromwell-Phoenix's CI packaging production facility located in Alsip, Illinois (Cook County). If you are the owner or operator of this source, this action affects the air pollution control rules that apply to your source as contained in the Illinois SIP.

II. Today's Action

A. What action is EPA taking today?

In this action, EPA is approving a site-specific revision to the Illinois SIP for Cromwell-Phoenix's CI packaging production facility located in Alsip, Illinois (Cook County). Specifically, EPA is approving a site-specific adjusted standard from volume 35 of the Illinois Administrative Code subpart F section 218.204(c) (35 IAC 218.204(c)) for Cromwell-Phoenix's CI packaging production facility. Pursuant to this adjusted standard, the applicable paper coating Volatile Organic Materials (VOM) ¹ content limits and other associated requirements of 35 IAC 218.204(c) do not apply to the CI packaging production facility. The adjusted standard contains a revised, source-specific coating VOM content limit along with other requirements specific to this facility. The Illinois Pollution Control Board (IPCB) adopted the alternative requirements for this source facility on September 18, 2003. We are approving these alternative requirements as part of the Adjusted Standard for incorporation into Illinois' SIP.

¹ Illinois' VOC emission control rules define control requirements in terms of Volatile Organic Materials (VOM). Illinois' definition of VOM is equivalent to EPA's definition of VOC. Therefore, the two terms/acronyms may be used interchangeably.

B. Why is EPA taking this action?

The use of paper impregnating solutions including organic solvents that do not meet Illinois' paper coating VOC content limits is necessary for CI packaging materials (designed to protect customer-wrapped metal parts) produced at the subject source facility. The VOC used in the CI solutions are designed to carry and distribute CI compounds into the impregnated paper and are, themselves, CI compounds. Given that the VOC carriers are also CI compounds, they have low vapor pressures and are selected such that they are generally retained in the finished CI paper products. The VOC are an integral component of the CI solutions, providing part of the CI function of the finished product and help carry CI compounds to the surfaces of metal parts wrapped in the CI papers. The low VOC volatility results in low VOC emissions at the facility. Cromwell-Phoenix has estimated that the maximum VOC emissions from the paper coating operations is 5 to 6 tons per year in total for the facility.

Cromwell-Phoenix has investigated the use of alternative, water-based CI solutions that have VOC contents complying with the VOC content limit of 35 IAC 218.204(c). Two problems were noted for the use of such CI solutions. First, the use of such CI solutions have resulted in unacceptable CI packaging materials. The water-based CI solutions caused the paper substrates to swell and to unacceptably deform or crease, resulting in products not usable by customers or unacceptable in appearance to customers. Second, the use of water in the CI solutions forced the need for extra drying of the CI product, which actually resulted in an increase in VOC emissions per unit of product produced as the drying process drove off VOC along with the water. Therefore, based on these two conclusions, Cromwell-Phoenix concluded that the use of water-based CI solutions would not be acceptable.

Consideration of add-on VOC emission control alternatives by Cromwell-Phoenix and the State has led to the conclusion that feasible, cost-effective add-on emission controls are not available for this facility. Cromwell-Phoenix considered the use of add-on emission control devices, which were determined to have an annual VOC control-cost effectiveness ratio ranging from $25,000 to $50,000 per ton of VOC controlled. Cromwell-Phoenix points out that this cost-effectiveness is excessive, especially considering that annual VOC emissions from the controlled units would only be 5 to 6 tons. Therefore, this facility cannot meet alternative VOC control requirements, as contained in 35 IAC 218.207(b) ² in a cost-effective manner.

² This rule allows the optional use of an add-on emissions control system in lieu of meeting a specific coating VOC content limit provided that the coating line is equipped with an emission capture system and control device that provides 81 percent reduction in the overall emissions of VOC from the coating line and that the emissions control device has a minimum efficiency of 90 percent or that the add-on emissions control system is demonstrated to have an overall efficiency sufficient to limit VOC emissions to no more than what is allowed under 35 IAC 218.204.

In summary, acceptable CI solvents that would allow compliance with the requirements of 35 IAC 218.204(c) are unavailable for Cromwell-Phoenix's CI packaging production facility and add-on VOC emission controls are not feasible in a cost-effective manner. Recognizing that significantly reducing the VOC content of CI solutions or that significantly further controlling VOC emissions at this facility cannot be done in a cost-effective manner, we agree that this facility qualifies for site-specific adjusted standard as adopted by the IPCB.

C. What are the alternative control requirements included in the Adjusted Standard?

In an order adopted and signed on September 18, 2003, the IPCB granted Cromwell-Phoenix an adjusted standard from 35 IAC 218.204(c), effective the same day. This adjusted standard applies to the equipment and emissions at Cromwell-Phoenix's facility located at 12701 South Ridgeway, Alsip, Cook County, Illinois existing as of July 14, 2003, as identified in the Clean Air Act Permit Program permit application Cromwell filed on March 20, 2003.

Under the adopted IPCB order, rather than the paper coating VOC content limit of 35 IAC 218.204(c), the subject Cromwell-Phoenix source is subject to the following requirements:

(1) The total actual VOC emissions from the entire Cromwell-Phoenix Alsip facility may not exceed 25 tons per year;

(2) The Versil Pak wax laminating coatings must continue to meet the VOC content limitations under 35 IAC 218 Subpart F;

(3) The web-fed and sheet-fed CI coating and printing lines must use only CI solutions which, as applied, have VOC content limits that do not exceed 8.3 pounds per gallon, less water;

(4) Cromwell-Phoenix must operate in full compliance with all other applicable provisions of 35 IAC 218;

(5) Cromwell-Phoenix must continue to investigate CI coatings with reduced VOC contents. Where practicable, Cromwell-Phoenix must substitute lower VOC coatings for current coatings as long as such substitution does not result in a net increase in VOC emissions from the facility. Beginning on October 1, 2004, Cromwell-Phoenix must prepare and submit an annual report summarizing the activities and results of its efforts to find suitable lower VOC coatings. This annual report must be submitted to the IEPA;

(6) Cromwell-Phoenix must operate in full compliance with the Clean Air Act, Illinois Environmental Protection Act, and any other applicable regulations; and

(7) Cromwell-Phoenix must continue to report annual emissions to the IEPA in accordance with the requirements of 35 IAC 254.

D. What information did Illinois submit in support of this SIP revision?

In its October 31, 2003, SIP revision request, the Illinois EPA submitted the following information and supporting documentation (along with other less substantive procedural documents, which are also included in the record for this rulemaking) in support of its request for EPA's approval of the adjusted standard for Cromwell-Phoenix:

(1) Cromwell-Phoenix's petition for a site-specific adjusted standard from 35 IAC 218.204(c) filed with the IPCB on May 29, 2003. This document describes the nature of the VOC source for which Cromwell-Phoenix seeks an adjusted standard and documents why Cromwell-Phoenix cannot comply with the requirements of 35 IAC 218;

(2) A notice of public hearing issued by the IPCB on July 3, 2003, noting that the public hearing would be held on August 7, 2003, in Chicago;

(3) A motion for expedited review filed the IPCB on July 3, 2003. Cromwell-Phoenix notified the IPCB that it was in business negotiations with another company that prompted the need for Cromwell-Phoenix to request that the IPCB process a source permit with the adjusted standard by December 31, 2003. Cromwell-Phoenix noted that, although it expected its CI production to increase at the Alsip facility, the VOC emissions at the facility would stay below the major source threshold, below 25 tons per year;

(4) A transcript of the August 7, 2003, public hearing on the amended standard. This transcript shows that no testimony was presented supporting a disapproval of the adjusted standard by the IPCB. The testimony given by the Illinois EPA does support its conclusion that the evaporation of VOC from the CI packaging material after the impregnation of the paper substrate is very low, even over a possible shelf life of up to five years. The Illinois EPA agrees that Cromwell-Phoenix has economic and product performance incentives to ensure that VOC components are retained in the CI product and not emitted at the Alsip facility. The Illinois EPA agrees that substitution of water for VOC in the CI solutions does not lead to viable CI products and can lead to increased VOC emissions as the result of the need for additional warm air drying of the product prior to distribution to customers. Finally, the Illinois EPA agrees that the only viable add-on emission control systems for the Alsip CI production facility, thermal oxidation or combination carbon adsorption/thermal oxidation systems, would have cost-effectiveness ratios that are well above the level that would be considered to be reasonable for conventional RACT controls. The costs of the viable add-on emission control systems would be prohibitive for Cromwell-Phoenix. The Illinois EPA concludes that the adjusted standard for Cromwell-Phoenix; and,

(5) The September 18, 2003, Opinion and Order of the IPCB, in which it adopted the amendments to the paper coating rules in 35 IAC 218.204(c) for Cromwell-Phoenix's Alsip CI packaging production facility, subject to conditions and alternate requirements for this facility.

Our review of the materials included in the Illinois EPA October 31, 2003, submittal leads us to agree with the Illinois EPA that the adjusted standard for Cromwell-Phoenix is warranted.

E. Was a public hearing held?

As noted above, the State held a public hearing on August 7, 2003, in Chicago. No parties other than those representing the State and those representing Cromwell-Phoenix attended the public hearing. No comments opposing the source-specific rule revision were submitted by the public during the public review period.

F. Why is this SIP revision being approved?

We agree with the State that Cromwell-Phoenix cannot produce a viable CI product using paper coating solutions that meet the VOC content requirements of 35 IAC 218.204(c). In addition, the use of add-on VOC emission controls for the subject source facility cannot be accomplished in a cost-effective manner meeting one of the general tenets of RACT that such emission controls be “reasonably” available. Therefore, an adjusted standard is warranted for this facility.

III. Final Rulemaking Action

For the reasons given above, EPA is approving into the Illinois SIP an Adjusted Standard for Cromwell-Phoenix from 35 IAC 218.204(c) for its CI packaging production facility in Alsip, Illinois. This Adjusted Standard (Opinion and Order of the Board, AS 03-5) was adopted by the IPCB on September 18, 2003.

The EPA is publishing this action without prior proposal because we view this as a non-controversial amendment, and anticipate no adverse comments. In the proposed rules section of this Federal Register publication, however, we are publishing a separate document that will serve as the proposal to approve the State plan if relevant adverse comments are filed. This rule will be effective February 11, 2008 without further notice unless we receive relevant adverse written comments by January 14, 2008. If we receive such comments, we will withdraw this action before the effective date by publishing a subsequent document that will withdraw the final action. All public comments received will then be addressed in a subsequent final rule based on the proposed action. We will not institute a second comment period. Any parties interested in commenting on this action should do so at this time. If we do not receive any relevant adverse comments, this action will be effective on February 11, 2008.

IV. Statutory and Executive Order Reviews

Executive Order 12866: Regulatory Planning and Review

Under Executive Order 12866 (58 FR 51735, October 4, 1993), this action is not a “significant regulatory action” and, therefore, is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children From Environmental Health Risks and Safety Risks” (62 FR 19885, April 23, 1997), because it approves a state rule implementing a Federal Standard.

National Technology Transfer Advancement Act

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 11, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Volatile organic compounds, Ozone, Reporting and recordkeeping requirements.

Dated: November 27, 2007.
Mary A. Gade,
Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart O—Illinois

2. Section 52.720 is amended by adding paragraph (c)(179) to read as follows:

§ 52.720 Identification of plan.

* * * * *

(c) * * *

(179) On October 31, 2003, the Illinois Environmental Protection Agency submitted rules and related materials to address site-specific requirements for Cromwell-Phoenix, Incorporated, located in Alsip, Illinois. These rules establish an adjusted standard for the corrosion inhibiting packaging production facility of Cromwell-Phoenix, Incorporated located at this source site. These rules provide a site-specific adjusted standard for this source facility for volume 35 of the Illinois Administrative Code subpart F section 218.204(c). The adjusted standard gives the corrosion inhibiting paper coating lines at the Alsip facility an adjusted volatile organic material (volatile organic compounds) content limit for paper coatings, and places an annual limit on the volatile organic material emissions from the Alsip facility as a whole. The adjusted standard also establishes source administration and reporting requirements for Cromwell-Phoenix, Incorporated Alsip facility. EPA is approving this site-specific adjusted standard as a revision of the Illinois state implementation plan.

(i) Incorporation by reference.

(A) September 18, 2003, Opinion and Order of the Illinois Pollution Control Board, AS 03-5, effective September 18, 2003.

[FR Doc. E7-23982 Filed 12-12-07; 8:45 am]

BILLING CODE 6560-50-P